DEPARTMENT OF ENERGY

Federal Energy Regulatory Commission

Combined Notice of Filings

Take notice that the Commission has received the following Natural Gas Pipeline Rate and Refund Report filings:

Filings Instituting Proceedings

Docket Numbers: RP15-285-000.

Applicants: Columbia Gas Transmission, LLC.

Description: Penalty Revenue Crediting Report of Columbia Gas Transmission, LLC under RP15-285.

Filed Date: 12/29/14.

Accession Number: 20141229-5202.

Comments Due: 5 p.m. ET 1/26/15.

Docket Numbers: RP15-286-000.

Applicants: Columbia Gulf Transmission, LLC.

Description: Penalty Revenue Crediting Report of Columbia Gulf Transmission, LLC under RP15-286.

Filed Date: 12/29/14.

Accession Number: 20141229-5203.

Comments Due: 5 p.m. ET 1/26/15.

Docket Numbers: RP15-287-000.

Applicants: Crossroads Pipeline Company.

Description: Penalty Revenue Crediting Report of Crossroads Pipeline Company under RP15-287.

Filed Date: 12/29/14.

Accession Number: 20141229-5205.

Comments Due: 5 p.m. ET 1/26/15.

Docket Numbers: RP15-288-000.

Applicants: Central Kentucky Transmission Company.

Description: Penalty Revenue Crediting Report of Central Kentucky Transmission Company under RP15-288.

Filed Date: 12/29/14.

Accession Number: 20141229-5208.

Comments Due: 5 p.m. ET 1/26/15.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP15-176-001.

Applicants: Discovery Gas Transmission LLC.

Description: Compliance filing per 154.203: Second Compliance Filing To Remove Costs From Rates to be effective 2/1/2015.

Filed Date: 1/21/15.

Accession Number: 20150121-5131.

Comments Due: 5 p.m. ET 2/2/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2015.
Nathaniel J. Davis, Sr.,
Deputy Secretary.

[FR Doc. 2015-01746 Filed 1-29-15; 8:45 am]

BILLING CODE 6717-01-P